DEPARTMENT OF COMMERCE

National Oceanic and Atmospheric Administration

[I.D. 071006D]

Mid-Atlantic Fishery Management Council (MAFMC); Meetings

AGENCY: National Marine Fisheries Service (NMFS), National Oceanic and Atmospheric Administration (NOAA), Commerce.

ACTION: Notice of public meeting.

SUMMARY: The Mid-Atlantic Fishery Management Council (Council); its Magnuson-Stevens Act (MSA) Reauthorization Committee; its Ecosystem Committee; and, its Squid, Mackerel, Butterfish Committee will hold public meetings.

DATES: Tuesday, August 1, 2006, through Thursday, August 3, 2006. See SUPPLEMENTARY INFORMATION for a meeting agenda.

ADDRESSES: This meeting will be held at the Sheraton Society Hill Hotel, One Dock Street, Philadelphia, PA 19106, telephone 215-238-6000.

Council Address: Mid-Atlantic Fishery Management Council, 300 S. New Street, Dover, DE 19904, telephone 302-674-2331.

FOR FURTHER INFORMATION CONTACT: Daniel T. Furlong, Executive Director, Mid-Atlantic Fishery Management Council; telephone: 302-674-2331, extension 19.

SUPPLEMENTARY INFORMATION:

Tuesday, August 1, 2006

The Magnuson-Stevens Act (MSA) Reauthorization Committee will meet from 9 a.m. until 10 a.m. to review Senate Bill 2012 and other reauthorization Bills to finalize Council position on MSA reauthorization. The Council will convene at 10 a.m. The Council will receive a summary report from 10 a.m. until 11:30 a.m. regarding outcomes of the 43rd Stock Assessment Review Committee concerning spiny dogfish, black sea bass, and red crab. From 12:30 p.m. until 4:30 p.m. the Council will finalize scup management measures for 2007 (2008, 2009) in conjunction with the Atlantic States Marine Fisheries Commission's Summer Flounder, Scup, and Black Sea Bass Board (Board). The Scup Monitoring Committee's recommendations will be reviewed regarding harvest levels and commercial management measures to be applied for the 2007 fishing year and possibly the next two years thereafter, and harvest levels and commercial management measures as appropriate for scup will be adopted.

Wednesday, August 2, 2006

The Council will convene at 8 a.m. and meet in conjunction with the Board until noon to finalize summer flounder management measures for 2007 (2008, 2009). The Council and Board will review the Summer Flounder Monitoring Committee's recommendations regarding harvest levels and commercial management measures to be applied for the 2007 fishing year and possibly the next two years thereafter, and harvest levels and commercial management measures as appropriate for summer flounder will be adopted. From 1 p.m. until 3:30 p.m. the Council will finalize black sea bass management measures for 2007 (2008, 2009) in conjunction with the Board. The Council and the Board will review the Black Sea Bass Monitoring Committee's recommendations regarding harvest levels and commercial management measures to be applied for the 2007 fishing year and possibly the next two years thereafter, and harvest levels and commercial management measures as appropriate for black sea bass will be adopted. From 3:30 p.m. until 5:30 p.m. the Council will finalize Bluefish Management Measures for 2007 in conjunction with the Atlantic States Marine Fisheries Commission's Bluefish Board by reviewing the Bluefish Monitoring Committee's recommendations regarding harvest levels and associated management measures to be applied for the 2007 fishing year, and harvest levels and associated management measures for 2007 will be adopted.

Thursday, August 3, 2006

Concurrent sessions of the Ecosystems Committee and the Squid, Mackerel, Butterfish Committee will meet from 8 a.m. until 9 a.m. The Ecosystems Committee will review strategies to reduce bycatch mortality through the adoption and use of circle hooks and other types of hooks in selected recreational fisheries. The Squid, Mackerel, Butterfish Committee will review and discuss trimester allocation alternatives regarding the 2007 fishing year for Loligo squid and adopt a preferred alternative. The Council will convene at 9 a.m. Loligo squid specifications for 2007 will be discussed from 9 a.m. until 9:30 a.m. This discussion will include a review of the Squid, Mackerel, Butterfish Committee's recommendations regarding trimester allocations and preferred allocation alternatives. The Council will approve and adopt a preferred allocation as its Loligo squid specification for 2007. From 9:30 a.m. until 11 a.m. the Council will review and discuss the scup rebuilding plan contained in the current draft of Amendment 14 to the Summer Flounder, Scup, Black Sea Bass FMP (pre-Public Hearing Document) and its associated environmental assessment (EA). From 11 a.m. until 1 p.m. the Council will receive a report on comments received as a consequence of the recent scoping process for Amendment 15 to the Summer Flounder, Scup, Black Sea Bass FMP, and develop a list of potential actions to be addressed in Amendment 15. The Council will conduct its regular business session from 2 p.m. to 5 p.m. to approve June Council meeting minutes, approve actions from the June meeting, receive various organizational reports, receive Committee reports and address any continuing business, i.e., changes to the Council's Statement of Operating Practices and Procedures (SOPP's) regarding Scientific and Statistical Committee membership, and any new business.

Although non-emergency issues not contained in this agenda may come before the Council and its Committees for discussion, these issues may not be the subject of formal Council or Committee action during this meeting. Council and Committee action will be restricted to those issues specifically listed in this notice and any issues arising after publication of this notice that require emergency action under section 305(c) of the Magnuson-Stevens Act provided the public has been notified of the Council(s intent to take final actions to address such emergencies.

Special Accommodations

This meeting is physically accessible to people with disabilities. Requests for sign language interpretation or other auxiliary aids should be directed to M. Jan Saunders (302-674-2331 extension 18) at least five days prior to the meeting date.

Dated: July 10, 2006.
Tracey L. Thompson,
Acting Director, Office of Sustainable Fisheries, National Marine Fisheries Service.

[FR Doc. E6-11025 Filed 7-12-06; 8:45 am]

BILLING CODE 3510-22-S